DEPARTMENT OF THE INTERIOR

National Park Service

Notice of Availability of Draft General Management Plan/Environmental Impact Statement/Wilderness Study for Sleeping Bear Dunes National Lakeshore.

AGENCY: National Park Service, Department of the Interior.

ACTION: Notice of Availability of Draft General Management Plan/Environmental Impact Statement/Wilderness Study for Sleeping Bear Dunes National Lakeshore.

SUMMARY: Pursuant to Section 102(2)(C) of the National Environmental Policy Act of 1969, 42 U.S.C. 4332(2)(c), the National Park Service (NPS) announces the availability of a draft General Management Plan/Environmental Impact Statement/Wilderness Study (GMP/EIS/WS) for Sleeping Bear Dunes National Lakeshore, Michigan.

DATES: The draft GMP/EIS/WS will remain available for public review for 45 days following the publishing of the notice of availability in the Federal Register by the U.S. Environmental Protection Agency. Public meetings will be held during the 45-day review period on the GMP/EIS/WS in Benzie, Lelanau, and Grand Traverse Counties, Michigan, in early summer 2008. In concert with one of the public meetings, a hearing on the wilderness study will be conducted consistent with Section 3(d)(1) of the Wilderness Act. Specific dates and locations will be announced in local and regional media sources of record and on the national lakeshore's Web site.

You may submit your comments by any one of several methods. You may comment via the Internet through the national lakeshore's Web site at http://www.nps.gov/slbe; simply click on the GMP page. You may also comment via the Internet through the NPS Planning, Environment, and Public Comment Web site (http://parkplanning.nps.gov); simply click on the link to Sleeping Bear Dunes National Lakeshore. You may mail comments to Superintendent Shultz, Sleeping Bear Dunes National Lakeshore, 9922 Front Street, Empire, Michigan 49630-9797. You may contact the Superintendent by facsimile at 231-326-5382. Finally, you may hand-deliver comments to the Sleeping Bear Dunes National Lakeshore headquarters at the address above.

ADDRESSES: Copies of the draft GMP/EIS/WS are available from the Superintendent, Sleeping Bear Dunes National Lakeshore, 9922 Front Street, Empire, Michigan 49630-9797.

SUPPLEMENTARY INFORMATION: This GMP/EIS/WS will guide the management of the Sleeping Bear Dunes National Lakeshore for the next 25 years. The draft GMP/EIS/WS considers five draft conceptual alternatives—a no-action and four action alternatives, including the NPS preferred alternative. The draft GMP/EIS/WS assesses impacts to a variety of natural resources, a variety of cultural resources, visitor opportunities and use, wilderness character, socioeconomics, and NPS operations.

The NPS preferred alternative manages the national lakeshore primarily for preservation of its natural resources and for the opportunities it provides for visitor enjoyment of the natural, cultural and recreational resources in scenic outdoor settings. In addition, the Wilderness Act, the enabling legislation for the national lakeshore, and the NPS management policies require that all lands administered by the NPS at the national lakeshore be evaluated for their suitability for inclusion within the national wilderness preservation system. The purpose of the wilderness study, incorporated into the GMP/EIS is to determine if and where lands and waters within the national lakeshore should be proposed for wilderness designation. The study identifies possible wilderness configurations within the park and evaluates their effects. The NPS preferred alternative proposes 32,200 acres for wilderness designation. Based on the findings of this study, a formal wilderness proposal will be submitted to the Director of the NPS for approval and subsequent consideration by the U.S. Department of the Interior, the President of the United States, and Congress under the provisions of the Wilderness Act.

FOR FURTHER INFORMATION CONTACT: Superintendent Shultz, Sleeping Bear Dunes National Lakeshore, at the address or telephone number above.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials of organizations or businesses, available for public inspection in their entirety.

Dated: March 12, 2008.
Ernest Quintana,
Regional Director, Midwest Region.

[FR Doc. E8-7983 Filed 4-15-08; 8:45 am]

BILLING CODE 4310-HH-M